POSTAL REGULATORY COMMISSION

[Docket No. CP2013-6; Order No. 1680]

Negotiated Service Agreement

AGENCY: Postal Regulatory Commission.

ACTION: Notice.

SUMMARY: The Commission is noticing a recent Postal Service filing concerning an amendment to Priority Mail Contract 46. This notice informs the public of the filing, invites public comment, and takes other administrative steps.

DATES: Comments are due: March 29, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On March 21, 2013, the Postal Service filed notice that it has agreed to an amendment to the existing Priority Mail Contract 46 (Amendment), which was added to the competitive product list in this docket.¹ In its Notice, the Postal Service includes Attachment A, a redacted copy of the Amendment. It also filed the unredacted Amendment under seal.

¹ Notice of United States Postal Service of Amendment to Priority Mail Contract 46, With Portions Filed Under Seal, March 21, 2013 (Notice).

The Postal Service asserts that the “supporting financial documentation and financial certification initially provided in this docket remain applicable,” and that the Amendment “will not materially affect the cost coverage” of the agreement. Id. at 1. It also seeks to incorporate by reference the Application for Non-Public Treatment originally filed in this docket for the protection of customer-identifying information that it has filed under seal. Id.

The Amendment changes the annual adjustment mechanism for the second and third years of the contract. Id. Attachment A at 1. In particular, it bases the price increases for the second and third years of the agreement on the average increase in prices of general applicability for “Priority Mail Commercial Plus” rather than the average increase in prices of general applicability for “Priority Mail Retail.” Id. The Postal Service intends for the Amendment to become effective on the first business day after the date that the Commission completes its review of the Notice. Id.

II. Notice of Filings

Interested persons may submit comments on whether the changes presented in the Postal Service's Notice are consistent with the policies of 39 U.S.C. 3632, 3633, or 3642, 39 CFR 3015.5, and 39 CFR part 3020, subpart B. Comments are due no later than March 29, 2013. The public portions of these filings can be accessed via the Commission's Web site (http://www.prc.gov).

The Commission appoints Lawrence Fenster to serve as Public Representative in this docket.

III. Ordering Paragraphs

It is ordered:

1. The Commission shall reopen Docket No. CP2013-6 to consider the amendment to Priority Mail Contract 46.

2. Pursuant to 39 U.S.C. 505, Lawrence Fenster is appointed to serve as an officer of the Commission (Public Representative) to represent the interests of the general public in these proceedings.

3. Comments by interested persons in these proceedings are due no later than March 29, 2013.

4. The Secretary shall arrange for publication of this Order in the Federal Register.

By the Commission.
Shoshana M. Grove,
Secretary.

[FR Doc. 2013-07129 Filed 3-27-13; 8:45 am]

BILLING CODE 7710-FW-P